COMMITTEE FOR THE IMPLEMENTATION OF TEXTILE AGREEMENTS

Adjustment of Import Limits for Certain Cotton and Man-Made Fiber Textile Products Produced or Manufactured in Singapore; Republication

June 30, 2000.

Editorial Note: FR Doc. 00-17161 was originally scheduled to be published in the issue of Friday, July 7, 2000, at page 41962. It was inadvertently omitted. It is published below in its entirety.

AGENCY: Committee for the Implementation of Textile Agreements (CITA).

ACTION: Issuing a directive to the Commissioner of Customs adjusting limits.

EFFECTIVE DATE: July 7, 2000.

FOR FURTHER INFORMATION CONTACT: Naomi Freeman, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted for carryover, carryforward and swing.

A description of the textile and apparel categories in terms of HTS numbers is available in the CORRELATION: Textile and Apparel Categories with the Harmonized Tariff Schedule of the United States (see Federal Register notice 64 FR 71982, published on December 22, 1999). Also see 64 FR 54874, published on October 8, 1999.

William J. Dulka,
Acting Chairman, Committee for the Implementation of Textile Agreements.

Committee for the Implementation of Textile Agreements

June 30, 2000.

Commissioner of Customs,

Department of the Treasury, Washington, DC 20229.

Dear Commissioner: This directive amends, but does not cancel, the directive issued to you on October 4, 1999, by the Chairman, Committee for the Implementation of Textile Agreements. That directive concerns imports of certain cotton, wool and man-made fiber textile products, produced or manufactured in Singapore and exported during the twelve-month period which began on January 1, 2000 and extends through December 31, 2000.

Effective on July 7, 2000, you are directed to adjust the limits for the following categories, as provided for under the Uruguay Round Agreement on Textiles and Clothing:

Category | Adjusted twelve-month limit ¹
222 | 702,393 kilograms.
331 | 657,384 dozen pairs.
338/339 | 1,728,914 dozen of which not more than 1,053,038 dozen shall be in Category 338 and not more than 1,127,744 dozen shall be in Category 339.
347/348 | 1,362,563 dozen of which not more than 846,912 dozen shall be in Category 347 and not more than 621,213 dozen shall be in Category 348.
604 | 1,072,871 kilograms.
639 | 4,123,826 dozen.
642 | 354,086 dozen.
648 | 1,765,424 dozen.
¹ The limits have not been adjusted to account for any imports exported after December 31, 1999.

The Committee for the Implementation of Textile Agreements has determined that these actions fall within the foreign affairs exception to the rulemaking provisions of 5 U.S.C. 553(a)(1).

Sincerely,
William J. Dulka,
Acting Chairman, Committee for the Implementation of Textile Agreements.

Editorial Note: FR Doc. 00-17161 was originally scheduled to be published in the issue of Friday, July 7, 2000 at page 41962. It was inadvertently omitted due to typesetting errors.

[FR Doc. 00-17161 Filed 7-6-00; 8:45 am]

BILLING CODE 1505-01-P